DEPARTMENT OF INTERIOR

National Park Service

Notice of Inventory Completion: Fruitlands Museums, Harvard, MA

AGENCY: National Park Service, Interior.

ACTION: Notice.

Notice is here given in accordance with provisions of the Native American Graves Protection and Repatriation Act (NAGPRA), 25 U.S.C. 3003, of the completion of an inventory of human remains and associated funerary objects in the possession of the Fruitlands Museums, Harvard, MA. The human remains and associated funerary object were removed from an unknown location in the State of New York.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the Fruitlands Museums professional staff in consultation with representatives of the Seneca Nation of New York, Seneca-Cayuga Tribe of Oklahoma, and Tonawanda Band of Seneca Indians of New York.

In 1830, human remains representing a minimum of one individual were removed from an unknown location by Mr. Jessie L. Farwell, an undertaker designated by the State of New York. Mr. Farwell gave the remains to Mr. John M. Locke, grandfather of Edgar Corbin. In 1924, Mr. Corbin gave the human remains to Mrs. Arthur Bullard (daughter of Ely S. Parker, a Tonawanda Seneca). Sometime between 1930 and 1937, Mrs. Bullard gave the remains to Miss Clara Endicott Sears, founder of the Fruitlands Museums. The human remains consist of several strands of hair of a single individual. A letter dated October 16, 1924 from Mr. Corbin to Mrs. Bullard identifies the human remains as those of Red Jacket. The one associated funerary object is a piece of beaded fabric.

Historical records indicate that Red Jacket, also known as Sakoiewatha or Sakoyewatha, was a Seneca Indian born in the 1750s. Red Jacket was a Chief of the Seneca after the Revolutionary War. Red Jacket also played an important role in the negotiations leading to the signing of the Treaty of Canandaigua in 1794. The 1924 letter states that while serving with the British Army during the revolutionary period, Major Joshua Locke, the father of Mr. Locke and great-grandfather of Mr. Corbin, met Red Jacket.

Officials of the Fruitlands Museums have determined that, pursuant to 25 U.S.C. (9-10), the human remains described above represent the physical remains of one individual of Native American ancestry. Officials of the Fruitlands Museums also have determined that, pursuant to 25 U.S.C. 3001 (3)(A), the one object described above is reasonably believed to have been placed with or near individual human remains at the time of death or later as part of the death rite or ceremony. Lastly, officials of the Fruitlands Museums have determined that, pursuant to 25 U.S.C. 3001 (2), there is a relationship of shared group identity that can be reasonably traced between the Native American human remains and associated funerary object and the Seneca Nation of New York.

Any lineal descendant or representatives of any other Indian tribe that believes itself to be culturally affiliated with the human remains and associated funerary object should contact Michael A. Volmar, Curator, Fruitlands Museums, 102 Prospect Hill Road, Harvard, MA 01451, telephone (978) 456-3924 extension 228, before January 9, 2006. Repatriation of the human remains and associated funerary object to the Seneca Nation of New York may proceed after that date if no additional claimants come forward.

The Fruitlands Museums is responsible for notifying the Seneca Nation of New York, Seneca-Cayuga Tribe of Oklahoma, and Tonawanda Band of Seneca Indians of New York that this notice has been published.

Dated: October 4, 2005.
Sherry Hutt,
Manager, National NAGPRA Program.

[FR Doc. 05-23863 Filed 12-8-05; 8:45 am]

BILLING CODE 4312-50-S